AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk officer for USAID, Office of Information and Regulatory Affairs, Office of Management and Budget (OMB), Washington, DC 20503. Copies of the information collection and supporting documents may be obtained by calling (202) 712-1365.

SUPPLEMENTARY INFORMATION: OMB Number: OMB 0412-0542.

Form Number: AID 1558-2.

Title: Request for Advance or Reimbursement.

Type of Submission: Renewal of Information Collection.

Purpose: The purpose of this information collection is to assure that American Schools and Hospitals Abroad (ASHA) grant recipients are permitted to obtain advances or reimbursements for expenditures that are authorized by the grant agreement. The information is used by (a) ASHA to monitor grant implementation relative to financial matters, (b) the office of Financial Management (FM) to track disbursements and expenditures, and (c) the Department of the Treasury to effect payments.

Annual Reporting Burden

Respondents: 70.

Total annual response: 400.

Total annual hours requested: 17,866 hours.

Dated: July 13, 2001.
Joanne Paskar,
Chief, Information and Records Division, Office of Administrative Services, Bureau for Management.

[FR Doc. 01-18788 Filed 7-26-01; 8:45 am]

BILLING CODE 6116-01-M